DEPARTMENT OF COMMERCE

Bureau of Economic Analysis

American Workforce Policy Advisory Board

AGENCY: Bureau of Economic Analysis, Office of the Under Secretary for Economic Affairs, Department of Commerce.

ACTION: Notice of public meeting.

SUMMARY: The Under Secretary for Economic Affairs announces the March 6, 2019 inaugural meeting of the American Workforce Policy Advisory Board (Workforce Advisory Board). The Advisory Board advises the National Council for the American Worker (National Council) on how the Federal Government can encourage the private sector and educational institutions to combat the skills crisis by investing in and increasing demand-driven education, training, and re-training for American workers. The discussions for this inaugural meeting include a review of the National Council's priority areas and identification of areas of activity for the Workforce Advisory Board.

DATES: The Workforce Advisory Board will meet on March 6, 2019; the meeting will begin at 2 p.m. and end at approximately 5 p.m. (EST).

ADDRESSES: The meeting will be in the Eisenhower Executive Office Building, 1650 Pennsylvania Ave. NW, Washington, DC 20502. The meeting is open to the public via audio conference technology. Audio instructions will be prominently posted on the Workforce Advisory Board homepage at: https://www.commerce.gov/americanworker/american-workforce-policy-advisory-board. Please note: The Workforce Advisory Board website will maintain the most current information on the meeting agenda, schedule, and location. These items may be updated without further notice in the Federal Register.

The public may also submit statements or questions via the Advisory Board email address, AmericanWorkforcePolicyAdvisoryBoard@doc.gov (please use the subject line “March 2019 Advisory Board Meeting Public Comment”), or by letter to Ken White, Office of Under Secretary for Economic Affairs, Department of Commerce, 1401 Constitution Avenue NW, Washington, DC 20230. If you wish the Workforce Advisory Board to consider your statement or question during the meeting, we must receive your written statement or question no later than 5 p.m. (EST) two business days prior to the meeting. We will provide all statements or questions received after the deadline to the members, however they may not consider them during the meeting.

FOR FURTHER INFORMATION CONTACT: Ken White, Office of Under Secretary for Economic Affairs, Department of Commerce, 1401 Constitution Avenue NW, Washington, DC 20230, (202) 482-2406, or white2@doc.gov.

SUPPLEMENTARY INFORMATION: In Executive Order 13845 (July 19, 2018), as amended, the President charged the National Council to develop a national strategy to ensure that America's students and workers have access to affordable, relevant, and innovative education and job training that will equip them to compete and win in the global economy and to monitor the implementation of that strategy. In the same Executive Order, the President created the Workforce Advisory Board to advise the National Council in its efforts to work with private employers, educational institutions, labor unions, other non-profit organizations, and State, territorial, tribal, and local governments to update and reshape America's education and job training landscape so that it better meets the needs of American students, workers, and businesses. The Workforce Advisory Board shall be co-chaired by the Secretary of Commerce and the Advisor to the President overseeing the Office of Economic Initiatives. In addition to the co-chairs, the Workforce Advisory Board comprises as many as 25 members appointed by the Secretary of Commerce. Members include individuals chosen to serve as representatives of the various sectors of the economy, including the private sector, employers, educational institutions, and States to offer diverse perspectives on how the federal government can improve education, training, and re-training for American workers.

In an advisory capacity, the Workforce Advisory Board supports the National Council in any of its functions, including:

• Building national campaigns to raise awareness of matters such as the urgency of the skills crisis, the creation of new industries and job opportunities through emerging technologies, the importance of manufacturing and trade careers, and the need for corporate training investments;

• Increasing transparency related to education and job-training program options, including those offered at 4-year institutions and community colleges;

• Proposing ways to increase access to job-related data (i.e., data on industries, geographic locations, open jobs, projected future opportunities, and the underlying required skills) and fostering close coordination within the federal government and between the government and non-federal stakeholders;

• Developing recommendations on how the public sector should engage with the private sector in worker re-training, including through the use of online learning resources;

• Examining public and private-sector expenditures, including tax expenditures, on worker education and training; and

• Recognizing companies that demonstrate excellence in workplace education, training, and re-training policies.

Dated: February 15, 2019.
Jeremy Pelter,
Chief Financial Officer, Bureau of Economic Analysis.

[FR Doc. 2019-03044 Filed 2-19-19; 11:15 am]

BILLING CODE